DEPARTMENT OF COMMERCE

National Oceanic and Atmospheric Administration

[RTID 0648-XD623]

Pacific Fishery Management Council; Public Meeting

AGENCY: National Marine Fisheries Service (NMFS), National Oceanic and Atmospheric Administration (NOAA), Commerce.

ACTION: Notice of public online meeting.

SUMMARY: The Groundfish Subcommittee of the Pacific Fishery Management Council's (Pacific Council's) Scientific and Statistical Committee (SSC) will hold a virtual meeting to review the 2023 groundfish stock assessment process and discuss process improvements for the next stock assessment cycle, review proposed revisions to the Terms of Reference for the Groundfish Stock Assessment Review Process for 2025 and 2026, review proposed revisions to the Terms of Reference for the Groundfish Rebuilding Analysis for 2025 and 2026, and update the Accepted Practices Guidelines for Groundfish Stock Assessments document. The SSC Groundfish Subcommittee meeting is open to the public.

DATES: The SSC Groundfish Subcommittee's online meeting will be held Wednesday, January 17, 2024 beginning at 8 a.m. and continuing until 5 p.m. Pacific time or until business for the day has been completed. The Subcommittee will reconvene on Thursday, January 18, 2024 beginning at 8 a.m. and ending at 5 p.m. or when business for the day has been completed.

ADDRESSES: The SSC Groundfish Subcommittee's meeting is being conducted online. Specific meeting information, materials, and instructions for how to connect to the meeting remotely will be provided in the meeting announcement on the Pacific Council's website (see https://www.pcouncil.org). Please contact Kris Kleinschmidt (kris.kleinschmidt@noaa.gov) or (503) 820-2412 for technical assistance.

Council address: Pacific Fishery Management Council, 7700 NE Ambassador Place, Suite 101, Portland, Oregon 97220.

FOR FURTHER INFORMATION CONTACT: Marlene A. Bellman, Staff Officer, Pacific Council; telephone: (503) 820-2414, email: marlene.bellman@noaa.gov.

SUPPLEMENTARY INFORMATION: The purpose of the SSC Groundfish Subcommittee's meeting includes, (a) review proposed changes to the Terms of Reference for the Groundfish Stock Assessment Review Process for 2025 and 2026, and Terms of Reference for the Groundfish Rebuilding Analysis for 2025 and 2026, that will inform the process for conducting and reviewing groundfish assessments and rebuilding analyses in the next cycle, (b) review proposed changes to the Accepted Practices Guidelines for Stock Assessments in 2025 and 2026, which is a compilation of guidelines for groundfish stock assessment scientists, and (c) to review and evaluate the 2023-2024 groundfish stock assessment review process to solicit process improvements for future reviews. Stock assessment teams and review participants are encouraged to attend, as well as members of the Pacific Council's groundfish advisory bodies in order to prepare their recommendations to the Pacific Council.

No management actions will be decided by the SSC Groundfish Subcommittee. Process improvement recommendations and proposed changes to the Terms of Reference and Accepted Practices Guidelines documents will first be considered during this online meeting, with a Groundfish Subcommittee post-meeting report to the full SSC at their March 2024 meeting and their recommended changes to the Terms of Reference scheduled for preliminary Pacific Council adoption for public review. The Pacific Council is scheduled to adopt a final Terms of Reference for the 2025-2026 stock assessment cycle at their June 2024 meeting in San Diego, California.

Although non-emergency issues not contained in the meeting agendas may be discussed, those issues may not be the subject of formal action during these meetings. Action will be restricted to those issues specifically listed in this notice and any issues arising after publication of this notice that require emergency action under Section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: December 22, 2023.
Diane M. DeJames-Daly,
Acting Deputy Director, Office of Sustainable Fisheries, National Marine Fisheries Service.

[FR Doc. 2023-28845 Filed 12-29-23; 8:45 am]

BILLING CODE 3510-22-P